OCCUPATIONAL SAFETY AND HEALTH REVIEW COMMISSION

Senior Executive Service Performance Review Board Membership; Withdrawal

AGENCY: Occupational Safety and Health Review Commission.

ACTION: Notice; withdrawal.

SUMMARY: In compliance with Presidential Action, Restoring Accountability for Career Senior Executives (January 20, 2025), the Occupational Safety and Health Review Commission is withdrawing its notice published in the Federal Register on January 21, 2025, concerning the appointment of members to the agency's Performance Review Board (PRB).

DATES: As of January 27, 2025, the Federal Register notice published at 90 FR 7197 on January 21, 2025, is withdrawn.

FOR FURTHER INFORMATION CONTACT: Michelle Huffman, Human Resources Specialist, U.S. Occupational Safety and Health Review Commission, 1120 20th Street NW—Ninth Floor, Washington, DC 20036-3457, (202) 606-5393.

Cynthia L. Attwood,
Chairman.

[FR Doc. 2025-01723 Filed 1-24-25; 8:45 am]

BILLING CODE 7600-01-P